DEPARTMENT OF COMMERCE

International Trade Administration

[A-580-815, A-580-816]

Certain Cold-Rolled and Corrosion-Resistant Carbon Steel Flat Products From Korea; Final Results of Expedited Sunset Reviews

AGENCY: Import Administration, International Trade Administration, Department of Commerce.

ACTION: Notice of final results of expedited sunset reviews.

SUMMARY: On September 1, 1999, the Department of Commerce (“the Department”) published the notice of initiation of sunset reviews of the antidumping duty orders on certain cold-rolled and corrosion-resistant carbon steel flat products from Korea. On the basis of a notice of intent to participate and adequate substantive response filed on behalf of a domestic interested party in each of these reviews, and inadequate response (in these cases no response) from respondent interested parties, we determined to conduct expedited sunset reviews. Based on our analysis of the substantive comments received, we find that revocation of the antidumping duty orders would be likely to lead to continuation or recurrence of dumping at the levels listed below in the section entitled “Final Results of the Review.”

EFFECTIVE DATE: April 6, 2000.

FOR FURTHER INFORMATION CONTACT: Martha V. Douthit or Melissa G. Skinner, Office of Policy, Import Administration, International Trade Administration, U.S. Department of Commerce, 14th Street and Constitution Avenue, NW, Washington, DC 20230; telephone: (202) 482-5050 and (202) 482-1560, respectively.

SUPPLEMENTARY INFORMATION:

Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (Sunset Policy Bulletin).

Background

On September 1, 1999, the Department published the notice of initiation of sunset reviews of the antidumping duty orders on certain cold-rolled and certain corrosion-resistant carbon steel flat products from Korea (64 FR 47767) pursuant to section 751(c) of the Act. We invited parties to comment. On the basis of a notice of intent to participate and adequate substantive response filed on behalf of domestic interested parties in both reviews, and inadequate response (in these cases no response) from respondent interested parties, we determined to conduct expedited sunset reviews. The Department has conducted these sunset reviews in accordance with sections 751 and 752 of the Act.

In accordance with section 751(c)(5)(C)(v) of the Act, the Department may treat a review as extraordinarily complicated if it is a review of a transition order (i.e., an order in effect on January 1, 1995). These reviews cover transition orders within the meaning of section 751(c)(6)(C)(ii) of the Act. Therefore, on December 22, 1999, the Department determined that the sunset reviews of the antidumping duty orders on certain cold-rolled and certain corrosion-resistant carbon steel flat products from Korea are extraordinarily complicated and extended the time limit for completion of the final results until not later than March 29, 2000, in accordance with section 751(c)(5)(B) of the Act.¹

¹ See Extension of Time Limit for Final Results of Five-Year Reviews, 64 FR 71726 (December 22, 1999).

Scope of Review

The merchandise covered by these orders is certain cold-rolled and certain corrosion-resistant carbon steel flat products from Korea. The order on cold-rolled steel covers cold-rolled (cold-reduced) carbon steel flat-rolled products, of rectangular shape, neither clad, plated nor coated with metal, whether or not painted, varnished or coated with plastics or other nonmetallic substances, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (“HTS”) under item numbers 7209.15.0000, 7209.16.0030, 7209.16.0060, 7209.16.0090, 7209.17.0030, 7209.17.0060, 7209.17.0090, 7209.18.1530, 7209.18.1560, 7209.18.2550, 7209.18.6000, 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7215.50.0015, 7215.50.0060, 7215.50.0090, 7215.90.5000, 7217.10.1000, 7217.10.2000, 7217.10.3000, 7217.10.7000, 7217.90.1000, 7217.90.5030, 7217.90.5060, 7217.90.5090. Included in this order are flat-rolled products of non-rectangular cross-section where such cross-section is achieved subsequent to the rolling process (i.e., products which have been “worked after rolling”)—for example, products which have been beveled or rounded at the edges. Excluded from this review is certain shadow mask steel, i.e., aluminum-killed, cold-rolled steel coil that is open-coil annealed, has a carbon content of less than 0.002 percent, is of 0.003 to 0.012 inch in thickness, 15 to 30 inches in width, and has an ultra flat, isotropic surface.

The order on certain corrosion-resistant carbon steel flat products covers flat-rolled carbon steel products, of rectangular shape, either clad, plated, or coated with corrosion-resistant met- als such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the HTS under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are flat-rolled products of nonrectangular cross-section where such cross-section is achieved subsequent to the rolling process (i.e., products which have been “worked after rolling”)—for example, products which have been beveled or rounded at the edges. Excluded from this review are: flat rolled steel products either plated or coated with tin, lead, chromium, chromium oxides, both tin and lead (“terne plate”), or both chromium and chromium oxides (“tin-free steel”), whether or not painted, varnished or coated with plastics or other nonmetallic substances in addition to the metallic coating; clad products in straight lengths of 0.1875 inch or more in composite thickness and of a width which exceeds 150 millimeters and measures at least twice the thickness; and certain clad stainless flat-rolled products, which are three-layered corrosion-resistant carbon steel flat-rolled products less than 4.75 millimeters in composite thickness that consist of a carbon steel flat-rolled product clad on both sides with stainless steel in a 20%-60%-20% ratio. These HTS item numbers are provided for convenience and customs purposes. The written descriptions remain dispositive.

The antidumping duty order remains in effect for all Korean producers and exporters of the subject merchandise

Analysis of Comments Received

All issues raised in the substantive responses by parties to these sunset reviews are addressed in the “Issues and Decision Memorandum” (“Decision Memo”) from Jeffrey A. May, Director, Office of Policy, Import Administration, to Robert S. LaRussa, Assistant Secretary for Import Administration, dated March 29, 2000, which is hereby adopted by this notice. The issues discussed in the attached Decision Memo include the likelihood of continuation or recurrence of dumping and the magnitude of the margin likely to prevail were the orders revoked. Parties can find a complete discussion of all issues raised in these reviews and the corresponding recommendations in this public memorandum, which is on file in the Department's Central Record Unit, Room B-099, 14th Street and Constitution Ave., NW, Washington, DC 20230.

In addition, a complete version of the Decision Memo can be accessed directly on the Web at www.ita.doc.gov/import_admin/records/frn. The paper copy and electronic version of the Decision Memo are identical in content.

Final Results of Reviews

We determine that revocation of the antidumping duty orders would be likely to lead to continuation or recurrence of dumping at the following percentage weighted-average margins:

Manufacturer/exporter | Margin (percent)
Certain Cold-Rolled Steel Flat Products
Pohang Iron and Steel Company (POSCO) | 14.44
All Others | 14.44
Certain Corrosion-Resistant Steel Flat Products
Pohang Iron and Steel Company (POSCO) | 17.70
All Others | 17.70

In addition, in the administrative reviews of these orders initiated during 1996 and 1998, the Department found antidumping duties were being absorbed. Specifically, in the final results of the administrative reviews initiated in 1996 (covering 1995/96) the Department found antidumping duties were being absorbed by POSCO on the following percentage of its U.S. sales: 35.54 percent with respect to certain cold-rolled carbon steel flat products, and 14.64 percent with respect to corrosion-resistant carbon steel flat products.² Additionally, in the reviews of both of these orders initiated in 1998 (covering 1997/98) the Department found that duties were absorbed by three companies on the following percentage of their U.S. sales: certain cold-rolled carbon steel flat products, POSCO—2.70 percent; and corrosion-resistant carbon steel flat products, Dongbu—20.81 percent, POSCO—6.85 percent, and Union—4.49 percent.³

² See Certain Cold-Rolled and Corrosion-Resistant Carbon Steel Flat Products From Korea: Final Results of Antidumping Duty Administrative Reviews: Final Results of Antidumping Duty Administrative Reviews; 63 FR 13170 (March 18, 1998)

³ See Certain Cold-Rolled and Corrosion-Resistant Carbon Steel Flat Products From Korea: Final Results of Antidumping Duty Administrative Reviews: Final Results of Antidumping Duty Administrative Reviews; 65 FR 13359 (March 13, 2000).

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing this determination and notice in accordance with sections 751(c), 752, and 777(i)(1) of the Act.

Dated: March 29, 2000.
Joseph A. Spetrini,
Acting, Assistant Secretary for Import Administration.

[FR Doc. 00-8558 Filed 4-5-00; 8:45 am]

BILLING CODE 3510-DS-P